DEPARTMENT OF ENERGY

Federal Energy Regulatory Commission

Combined Notice of Filings #1

Take notice that the Commission received the following electric corporate filings:

Docket Numbers: EC18-77-000.

Applicants: Cabazon Wind Partners, LLC, Rock River I, LLC, Whitewater Hill Wind Partners, LLC.

Description: Application for Authorization for Disposition of Jurisdictional Facilities and Request for Expedited Action of Cabazon Wind Partners, LLC, et. al.

Filed Date: 3/27/18.

Accession Number: 20180327-5200.

Comments Due: 5 p.m. ET 4/17/18.

Take notice that the Commission received the following exempt wholesale generator filings:

Docket Numbers: EG18-68-000.

Applicants: Camilla Solar Energy LLC.

Description: Notice of Self-Certification of Exempt Wholesale Generator Status of Camilla Solar Energy LLC.

Filed Date: 3/28/18.

Accession Number: 20180328-5072.

Comments Due: 5 p.m. ET 4/18/18.

Take notice that the Commission received the following electric rate filings:

Docket Numbers: ER10-1819-017; ER10-1820-0020.

Applicants: Northern States Power Company, a Minnesota corporation, Northern States Power Company, a Wisconsin corporation.

Description: Supplement to December 28, 2017 Triennial Market Power Analysis of Northern States Power Company, a Minnesota corporation, and Northern States Power Company, a Wisconsin corporation.

Filed Date: 3/28/18.

Accession Number: 20180328-5177.

Comments Due: 5 p.m. ET 4/18/18.

Docket Numbers: ER16-2025-000.

Applicants: Mt. Carmel Cogen, Inc.

Description: Report Filing: Refund Report to be effective N/A.

Filed Date: 3/27/18.

Accession Number: 20180327-5186.

Comments Due: 5 p.m. ET 4/17/18.

Docket Numbers: ER18-192-002.

Applicants: Dynegy Oakland, LLC.

Description: Tariff Amendment: Settlement Agreement and Request for Expedited Treatment to be effective 1/1/2018.

Filed Date: 3/27/18.

Accession Number: 20180327-5181.

Comments Due: 5 p.m. ET 4/17/18.

Docket Numbers: ER18-748-001.

Applicants: Southwest Power Pool, Inc.

Description: Tariff Amendment: Amendment to Cost Recovery Filing on Behalf of American Electric Power Service to be effective 4/1/2018.

Filed Date: 3/27/18.

Accession Number: 20180327-5184.

Comments Due: 5 p.m. ET 4/17/18.

Docket Numbers: ER18-1195-000.

Applicants: Southwest Power Pool, Inc.

Description: § 205(d) Rate Filing: 1518R13 Arkansas Electric Cooperative Corp NITSA NOA Notice of Cancellation to be effective 1/1/2018.

Filed Date: 3/28/18.

Accession Number: 20180328-5031.

Comments Due: 5 p.m. ET 4/18/18.

Docket Numbers: ER18-1196-000.

Applicants: Duke Energy Indiana, LLC.

Description: § 205(d) Rate Filing: DEI Reactive Tariff Amendment (Connersville/Miami Wabash Reactive Retirement) to be effective 6/1/2018.

Filed Date: 3/28/18.

Accession Number: 20180328-5032.

Comments Due: 5 p.m. ET 4/18/18.

Docket Numbers: ER18-1197-000.

Applicants: Camilla Solar Energy LLC.

Description: Baseline eTariff Filing: Application for Market-Based Rate Authorization to be effective 5/28/2018.

Filed Date: 3/28/18.

Accession Number: 20180328-5064.

Comments Due: 5 p.m. ET 4/18/18.

Docket Numbers: ER18-1198-000.

Applicants: Southwest Power Pool, Inc.

Description: § 205(d) Rate Filing: 2855R4 KMEA & KCPL Meter Agent Agreement to be effective 3/1/2018.

Filed Date: 3/28/18.

Accession Number: 20180328-5066.

Comments Due: 5 p.m. ET 4/18/18.

Docket Numbers: ER18-1199-000.

Applicants: Public Service Company of Colorado.

Description: Formula Rate Post-employment Benefits Other than Pensions filing of Public Service Company of Colorado.

Filed Date: 3/27/18.

Accession Number: 20180327-5202.

Comments Due: 5 p.m. ET 4/17/18.

Docket Numbers: ER18-1200-000.

Applicants: PSEG Energy Resources & Trade LLC.

Description: § 205(d) Rate Filing: Reactive Power Tariff Record Sewaren and Keys to be effective 6/1/2018.

Filed Date: 3/28/18.

Accession Number: 20180328-5091.

Comments Due: 5 p.m. ET 4/18/18.

Docket Numbers: ER18-1201-000.

Applicants: Public Service Company of Colorado.

Description: § 205(d) Rate Filing: OATT Att N—LGIP Amend Suspend Lang. to be effective 3/29/2018.

Filed Date: 3/28/18.

Accession Number: 20180328-5154.

Comments Due: 5 p.m. ET 4/18/18.

Docket Numbers: ER18-1203-000.

Applicants: PJM Interconnection, L.L.C.

Description: § 205(d) Rate Filing: Original ISA SA No. 5034; Queue No. AC1-097 to be effective 3/7/2018.

Filed Date: 3/28/18.

Accession Number: 20180328-5156.

Comments Due: 5 p.m. ET 4/18/18.

Docket Numbers: ER18-1204-000.

Applicants: AEP Texas Inc.

Description: § 205(d) Rate Filing: AEPTX-Victoria City Power Interconnection Agreement to be effective 3/6/2018.

Filed Date: 3/28/18.

Accession Number: 20180328-5157.

Comments Due: 5 p.m. ET 4/18/18.

Docket Numbers: ER18-1205-000.

Applicants: AEP Texas Inc.

Description: § 205(d) Rate Filing: AEPTX-Victoria Port Power Interconnection Agreement to be effective 3/6/2018.

Filed Date: 3/28/18.

Accession Number: 20180328-5167.

Comments Due: 5 p.m. ET 4/18/18.

Docket Numbers: ER18-1207-000.

Applicants: Southern California Edison Company.

Description: § 205(d) Rate Filing: 2018 TACBAA Update to be effective 6/1/2018.

Filed Date: 3/28/18.

Accession Number: 20180328-5213.

Comments Due: 5 p.m. ET 4/18/18.

Docket Numbers: ER18-1208-000.

Applicants: Midcontinent Independent System Operator, Inc., Northern Indiana Public Service Company.

Description: § 205(d) Rate Filing: 2018-03-28 NIPSCO-IMPA 1st Rev NOTIA to be effective 1/18/2018.

Filed Date: 3/28/18.

Accession Number: 20180328-5227.

Comments Due: 5 p.m. ET 4/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2018.
Nathaniel J. Davis, Sr.,
Deputy Secretary.

[FR Doc. 2018-06697 Filed 4-2-18; 8:45 am]

BILLING CODE 6717-01-P